ENVIRONMENTAL PROTECTION AGENCY

[EPA-R05-OAR-2017-0277; FRL-9971-62-Region 5]

Adequacy Status of the Metro-East St. Louis, Illinois 2008 Ozone Standard Nonattainment Area for the Submitted Maintenance Plan for Transportation Conformity Purposes

AGENCY: Environmental Protection Agency (EPA).

ACTION: Notice of finding of adequacy.

SUMMARY: In this notice, the Environmental Protection Agency (EPA) is notifying the public that we find the motor vehicle emissions budgets (MVEBs) for volatile organic compounds (VOCs) and oxides of nitrogen (NOX) in the Illinois portion of the St. Louis area (Madison, Monroe and St. Clair Counties or “Metro-East area”), 2008 Ozone Standard nonattainment area adequate for use in transportation conformity determinations. Illinois submitted a 2008 Ozone Standard maintenance plan for the Metro-East area on May 8, 2017. As a result of this finding of adequacy, the MVEBs from the submitted maintenance plan must be used by state and Federal agencies in determining whether proposed transportation projects conform to the SIP as required by the Clean Air Act.

DATES: This finding is applicable December 26, 2017.

FOR FURTHER INFORMATION CONTACT: Michael Leslie, Environmental Engineer, Control Strategies Section (AR-18J), Air Programs Branch, Air and Radiation Division, United States Environmental Protection Agency, Region 5, 77 West Jackson Boulevard, Chicago, Illinois 60604, (312) 353-6680, leslie.michael@epa.gov.

SUPPLEMENTARY INFORMATION: Throughout this document, whenever “we”, “us” or “our” is used, we mean EPA.

Background

Today's notice is an announcement of a finding that we have already made. On September 26, 2017, EPA sent a letter to the Illinois Environmental Protection Agency, stating that the 2030 MVEBs contained in the maintenance plan for the 2008 Ozone Standard for Metro-East area are adequate for transportation conformity purposes. EPA announced receipt of these MVEBs on its transportation conformity Web site, and did not receive any comments during the public comment period. The finding of adequacy is available at EPA's conformity Web site: https://www.epa.gov/state-and-local-transportation/adequacy-review-state-implementation-plan-sip-submissions-conformity.

The 2030 MVEBs, in tons per day (tpd), for VOCs and NOX for the Metro-East St. Louis, Illinois area are as follows:

Year | NOX (tpd) | VOCs (tpd)
2030 | 16.68 | 9.05

Transportation conformity is required by section 176(c) of the Clean Air Act. EPA's conformity rule requires that transportation plans, programs, and projects conform to state air quality implementation plans and establishes the criteria and procedures for determining whether they conform. Conformity to a State Implementation Plan (SIP) means that transportation activities will not produce new air quality violations, worsen existing violations, or delay timely attainment of the national ambient air quality standards.

The criteria by which we determine whether a SIP's MVEBs are adequate for transportation conformity purposes are outlined in 40 CFR 93.118(e)(4). Please note that an adequacy review is separate from EPA's completeness review, and is also a separate action from EPA's evaluation of and decision whether to approve a proposed SIP revision.

Authority: 42 U.S.C. 7401-7671q.

Dated: November 17, 2017.
Robert A. Kaplan,
Acting Regional Administrator, Region 5.

[FR Doc. 2017-26533 Filed 12-8-17; 8:45 am]

BILLING CODE 6560-50-P